DEPARTMENT OF ENERGY

Federal Energy Regulatory Commission

[Docket No. CP04-414-002]

Entrega Gas Pipeline LLC; Notice of Compliance Filing

November 22, 2005.

Take notice that on November 16, 2005, Entrega Gas Pipeline LLC (Entrega) filed its FERC Gas Tariff, Original Volume 1, in compliance with Ordering Paragraph (B)(4) of the Order Issuing Certificates, issued by the Commission on August 9, 2005 in the captioned dockets. Entrega requests an effective date of December 17, 2005, the earliest date that service is expected to commence on Segment 1 (36-inch diameter pipeline from the Meeker Hub in Rio Blanco County, Colorado to Wamsutter in Sweetwater County, Wyoming) of the Entrega Pipeline.

Entrega states that copies of its transmittal letter and the unmarked tariff sheets have been mailed to all parties to this proceeding, Entrega's shipper and interested state regulatory agencies.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on December 15, 2005.

Magalie R. Salas,
Secretary.

[FR Doc. E5-6689 Filed 11-29-05; 8:45 am]

BILLING CODE 6717-01-P